DEPARTMENT OF COMMERCE

Bureau of Industry and Security

15 CFR Part 705

[Docket No. 211115-0229]

RIN 0694-AH55

Removal of Certain General Approved Exclusions (GAEs) Under the Section 232 Steel and Aluminum Tariff Exclusions Process

AGENCY: Bureau of Industry and Security, U.S. Department of Commerce.

ACTION: Interim final rule.

SUMMARY: On December 14, 2020, the Department of Commerce published an interim final rule (the “December 14 rule”) that revised aspects of the process for requesting exclusions from the duties and quantitative limitations on imports of aluminum and steel discussed in three previous Department of Commerce (“Commerce”) interim final rules implementing the exclusion process authorized by the President under Section 232 of the Trade Expansion Act of 1962, as amended, as well as a May 26, 2020 notice of inquiry. The December 14 rule included adding 123 General Approved Exclusions (GAEs) to the regulations. Subsequently, based on Commerce's review of the public comments received in response to the December 14 rule and additional analysis conducted by Commerce on the Section 232 exclusion request submissions, Commerce determined that a subset of the GAEs added in the December 14 rule no longer meets the criteria for inclusion as a GAE and should therefore be removed. Commerce is removing these GAEs in this interim final rule to ensure only those GAEs that meet the stated criteria from the December 14 rule will continue to be included as eligible GAEs. This interim final rule removes thirty of the GAEs that were added to the regulations in the December 14 rule, consisting of twenty-six GAEs for steel and four GAEs for aluminum. As a conforming change to a recent U.S. International Trade Commission (ITC) decision, this rule also removes one additional steel GAE. Lastly, this interim final rule adds a note to both GAE supplements to address future changes to the Harmonized Tariff Schedule of the United States (HTSUS).

DATES: This interim final rule is effective December 27, 2021.

FOR FURTHER INFORMATION CONTACT: For questions regarding this interim final rule, contact Kevin Coyne at 202-482-3203 or via email Kevin.Coyne@bis.doc.gov, or email Steel232@bis.doc.gov regarding provisions in this rule specific to steel exclusion requests and Aluminum232@bis.doc.gov regarding provisions in this rule specific to aluminum exclusion requests.

SUPPLEMENTARY INFORMATION:

Background

On March 8, 2018, Proclamations 9704 and 9705 were issued imposing duties on imports of aluminum and steel, respectively. The Proclamations also authorized the Secretary of Commerce (“the Secretary”) to grant exclusions from the duties if the Secretary determines the steel or aluminum article for which the exclusion is requested is not “produced in the United States in a sufficient and reasonably available amount or of a satisfactory quality” or should be excluded “based upon specific national security considerations,” and provided authority for the Secretary to issue procedures for exclusion requests. On April 30, 2018, Proclamations 9739 and 9740, and on May 31, 2018, Proclamations 9758 and 9759, set quantitative limitations on the import of steel and aluminum from certain countries in lieu of the duties. On August 29, 2018, in Proclamations 9776 and 9777, the Secretary was authorized to grant exclusions from quantitative limitations based on the same standards applicable to exclusions from the tariffs.

Implementing and Improving the Section 232 Exclusions Process

Since March 19, 2018, Commerce has published a series of four interim final rules that established and made various improvements to the Section 232 exclusions process.

On March 19, 2018, Commerce first issued an interim final rule, Requirements for Submissions Requesting Exclusions from the Remedies Instituted in Presidential Proclamations Adjusting Imports of Steel into the United States and Adjusting Imports of Aluminum into the United States; and the filing of Objections to Submitted Exclusion Requests for Steel and Aluminum (83 FR 12106) (the “March 19 rule”), laying out procedures for the Section 232 exclusions process.

On September 11, 2018, Commerce issued a second interim final rule, Submissions of Exclusion Requests and Objections to Submitted Requests for Steel and Aluminum (83 FR 46026) (the “September 11 rule”), that revised the two supplements added by the March 19 rule with improvements designed to further ensure a transparent, fair, and efficient exclusion and objection process.

On June 10, 2019, Commerce issued a third interim final rule, Implementation of New Commerce Section 232 Exclusions Portal (84 FR 26751) (the “June 10 rule”), that revised the two supplements added by the March 19 and September 11 rules to grant the public the ability to submit new exclusion requests through the Section 232 Exclusions Portal while still allowing the opportunity for public comment on the portal.

On May 26, 2020, Commerce issued a notice of inquiry with request for comment, Notice of Inquiry Regarding the Exclusion Process for Section 232 Steel and Aluminum Import Tariffs and Quotas (85 FR 31441) (the “May 26 notice”), that sought public comment on the appropriateness of the information requested and considered in applying the exclusion criteria, and the efficiency and transparency of the process employed.

On December 14, 2020, Commerce issued a fourth interim final rule, Implementation of New Commerce Section 232 Exclusions Portal (85 FR 81060) (the “December 14 rule”), that made additional revisions to the Section 232 exclusion process and added General Approved Exclusions (GAEs) to supplements no. 2 and no. 3 to part 705.

Adoption of General Approved Exclusions

As noted above, the December 14 rule added new supplements, no. 2 and no. 3, for identifying GAEs for steel and aluminum articles under the Section 232 exclusions process and the first approved tranche of GAEs for steel and aluminum articles. GAEs addressed a long-standing request from exclusion requesters to create a more efficient process to approve certain exclusions where Commerce has determined that: (1) No objections will be received; and (2) it is warranted to approve an exclusion for all importers to use.

Specifically, the December 14 rule added a new Supplement No. 2 to Part 705—General Approved Exclusions (GAEs) for Steel Articles Under the Section 232 Exclusions Process, and a new Supplement No. 3 to Part 705—General Approved Exclusions (GAEs) for Aluminum Articles under the Section 232 Exclusions Process. These two supplements identify the steel and aluminum articles that have been approved for import under a GAE. The December 14 rule added 108 GAEs for steel articles under supplement no. 2 to part 705 and 15 GAEs for aluminum articles under supplement no. 3 to part 705. Each GAE is identified under the GAE identifier column, e.g., GAE.1.S: 7304592030 (for the first approved GAE for steel) or GAE.1.A: 7609000000 (for the first approved GAE for aluminum).

The Secretary, in consultation with the Secretary of Defense, the Secretary of the Treasury, the Secretary of State, the United States Trade Representative, the Assistant to the President for Economic Policy, the Assistant to the President for National Security Affairs, and other senior Executive Branch officials, as appropriate, makes the determinations that certain aluminum and steel articles may be authorized under a GAE consistent with the objectives of the Section 232 exclusions process as outlined in supplement no. 1 to part 705.

The GAEs described in these supplements may be used by any importer. The two supplements specify that, in order to use a GAE, the importer must reference the GAE identifier in the Automated Commercial Environment (ACE) system that corresponds to the steel or aluminum articles being imported. GAEs do not include quantity limits. The effective date for each GAE will be fifteen calendar days after the date of publication of a Federal Register notice either adding or revising a specific GAE identifier in supplements no. 2 or no. 3 to this part. There will be no retroactive relief for GAEs. The December 14 rule also specified that relief is only available to steel or aluminum articles that are entered for consumption, or withdrawn from warehouse for consumption, on or after the effective date of a GAE included in supplements no. 2 or no. 3 to part 705.

The December 14 rule specified that these GAEs are indefinite in length, but Commerce may at any time issue a Federal Register notice removing, revising, or adding to an existing GAE in either of the two supplements as warranted to align with the objectives of the Section 232 exclusions process as described in supplement no. 1 to part 705. As described below, Commerce is making such a revision with the publication of today's interim final rule by removing 30 of the GAEs. Commerce may periodically publish notices of inquiry in the Federal Register soliciting public comments on potential removals, revisions, or additions to this supplement.

Why is Commerce publishing this interim final rule?

Commerce is publishing this interim final rule to remove a subset of GAEs (26 GAEs for steel and 4 GAEs for aluminum) added in the December 14 rule after public comments on the December 14 rule and subsequent Commerce analysis of data in the Section 232 Exclusions Portal identified these HTSUS codes as not meeting the criteria for inclusion as a GAE. These cases include HTSUS codes with exclusion requests that recently received objections and/or denials in the Section 232 Exclusions Portal. Commerce is removing these GAEs in this interim final rule to ensure that only those GAEs that meet the stated criteria from the December 14 rule will continue to be included as eligible GAEs.

What is the key change included in this interim final rule?

This interim final rule is being published to make the following key change to the Section 232 exclusions process: As described above, the December 14 rule included adding 123 GAEs. The addition of GAEs improved the efficiency and effectiveness of the Section 232 exclusions process for certain steel and aluminum articles under select HTSUS codes that had not received objections from domestic industry. Commerce determined that it could authorize imports under GAEs for these specified articles as defined by HTSUS codes for all importers rather than requiring each importer to submit an exclusion request.

Subsequently, based on Commerce's review of the public comments received in response to the December 14 rule and additional analysis conducted by Commerce of Section 232 submissions, Commerce determined that a subset of the GAEs added in the December 14 rule do not meet the criteria for inclusion as a GAE and should therefore be removed. Commerce is removing these GAEs in today's rule to ensure that only those GAEs that meet the stated criteria from the December 14 rule will continue to be included as eligible GAEs. This interim final rule removes 30 of the GAEs that were added to the regulations in the December 14 rule, consisting of 26 GAEs for steel (“GAE.3.S: 7220900060,” “GAE.7.S: 7227901060,” “GAE.14.S: 7215500018,” “GAE.16.S: 7228501040,” “GAE.23.S: 7220206010,” “GAE.27.S: 7219320020,” “GAE.33.S: 7304515005,” “GAE.34.S: 7219330025,” “GAE.35.S: 7217901000,” “GAE.37.S: 7217108030,” “GAE.38.S: 7212200000,” “GAE.39.S: 7217204560,” “GAE.52.S: 7219220040,” “GAE.53.S: 7219320038,” “GAE.54.S: 7219320045,” “GAE.55.S: 7219350005,” “GAE.56.S: 7219320036,” “GAE.60.S: 7225501110,” “GAE.68.S: 7302101015,” “GAE.71.S: 7217304541,” “GAE.75.S: 7219210005,” “GAE.76.S: 7304293160,” “GAE.78.S: 7216400010,” “GAE.87.S: 7304293180,” “GAE.92.S: 7208390015,” and “GAE.98.S: 7229200015”) and 4 GAEs for aluminum (“GAE.2.A: 7607205000,” “GAE.11.A: 7616995170,” “GAE.14.A: 7601209095,” and “GAE.15.A: 7616995160”). Because these GAEs do not meet the established criteria, Commerce is publishing this interim final rule to remove these thirty GAEs. This interim final rule makes no additional changes to the other 93 GAEs that will continue to remain in supplements no. 2 and no. 3. This revision further ensures the Section 232 exclusions process is consistent with the rationale for the import restrictions—protecting U.S. national security—while increasing the efficiency of the exclusion process.

Public Comments and BIS Responses

The public comment period on the December 14 rule closed on February 12, 2021. BIS received thirty-five public comments on the interim final rule.

GAEs That Received Objections and/or Denials

Comment (a)(1): GAEs did not follow the criteria stated in the December 14 rule because some GAE HTSUS codes received objections and/or denials. Several comments referenced the criteria Commerce included in the December 14 rule detailing why certain HTSUS codes were selected for GAEs. Specifically, these commenters noted that according to the Department, the “GAEs address a long-standing request from public comments of exclusion requesters to create a more efficient process to approve certain exclusions for use by all importers where Commerce has determined that no objections will be received and where it is warranted to approve an exclusion for all importers to use.” These commenters stated that this is not the case because the GAE list from the December 14 rule included several HTSUS codes for which domestic producers submitted an objection, covering more than a dozen GAEs. These same commenters noted that the GAE list also included several HTSUS codes for which the Department had denied exclusion requests. For these reasons, these commenters believe the Department's GAE list is, therefore, flawed.

BIS response: Commerce will continue to apply the criteria that were included in the December 14 rule. Commerce agrees that a subset of GAEs included in the December 14 rule did not meet the stated criteria for inclusion as a GAE. The criteria in the December 14 rule need to be followed to ensure that GAEs can be implemented in a way that improves the efficiency and effectiveness of the Section 232 exclusions process without undermining the effectiveness of the tariffs and the national security objectives that the tariffs are attempting to address. Commerce will act to remove or revise GAE entries once Commerce becomes aware of GAEs that do not meet the stated criteria for inclusion.

Comment (a)(2): Data from Section 232 Exclusions Portal demonstrating objections were received. Commenters opposed to the GAEs highlighted that a review of the Section 232 Exclusions Portal shows that over 70 exclusion requests involving HTSUS provisions included on supplements no. 2 and no. 3 in the December 14 rule had objections filed and, in a number of cases, the requests were denied by Commerce. Commenters noted that despite these findings the HTSUS codes were included in the December 14 rule as eligible GAEs. Some of these commenters included detailed screen shots or other information taken from the Section 232 Exclusions Portal to support their comments.

BIS response: Commerce agrees with these commenters that the data in the Section 232 Exclusions Portal indicates that certain HTSUS codes do not meet the criteria for inclusion on the list of GAEs. As described below in greater detail, the difference between the stated criteria in the December 14 rule and the published list of GAEs occurred due to activity in the Section 232 Exclusions Portal which occurred after the baseline date used by Commerce for identifying which HTSUS codes had not received objections and/or denials and thus were eligible for inclusion as GAEs. As described below, Commerce has made internal process changes to ensure that the rulemaking process for all future rules adding new GAEs will include review immediately prior to publication for any new rule adding additional GAEs.

Comment (a)(3): Including steel or aluminum articles in GAEs that had received objections and/or denials is unfair and contrary to the objectives of the Section 232 process. Some commenters indicated that it is unfair to companies who filed objections, after which the related exclusion requests were denied, to allow the same steel or aluminum articles to be eligible for GAEs. These commenters were also concerned that not only does granting GAEs for such steel and aluminum articles allow the company who submitted the exclusion request to import the steel or aluminum product tariff-free, it also opens the market to all companies who import that aluminum or steel product.

BIS response: Commerce agrees with these concerns and is addressing them in this interim final rule.

Changes Made in This Interim Final Rule To Improve the Section 232 Exclusions Process

BIS is suspending 30 out of the 123 GAEs that became effective on December 29, 2020. This interim final rule implements these 30 suspensions by removing these GAEs from supplements no. 2 and no. 3 to part 705. Commerce made this determination based on internal review of exclusions data which indicated that the articles specified in these 30 GAEs require further analysis by the Department. Based on the results of this analysis, Commerce may reissue these GAEs in whole or in part with subsequent interim final rules. As noted in the December 14 rule, Commerce may periodically publish notices of inquiry in the Federal Register soliciting public comments on potential removals, revisions, or additions to the two supplements for GAEs. Based on Commerce's experience with the initial tranche of GAEs, Commerce will likely publish notices prior to adding additional GAEs to help better inform Commerce decisions on what HTSUS codes or specific products may warrant inclusion.

The steel and aluminum articles specified by these 30 GAEs (as defined by their HTSUS Classifications) will revert to the duties and treatment previously established under Presidential Proclamations 9704 and 9705 as well as subsequent Proclamations.

Commerce identified 26 steel GAEs and 4 aluminum GAEs for removal in this interim final rule. Commerce identified these GAEs based on review of its internal exclusions data in light of public comments received in response to the December 14 rule highlighting, as noted above, that articles under certain HTSUS codes were included as GAEs despite previously receiving objections and/or denials in the Section 232 Exclusions Portal.

Commerce issued the set of 123 GAEs based on its analysis of all of the exclusion requests received through the Section 232 exclusions process since its implementation on March 19, 2018. BIS based the GAEs on the HTSUS codes that had never received an objection during the first thirty months of the Section 232 exclusions process, on the basis that the lack of objections indicated either an unwillingness or inability of domestic objectors to manufacture the articles classified under the HTSUS codes. Commerce conducted its analysis using data, drawn on a baseline date of September 12, 2020, from the Section 232 Exclusions Portal. The baseline date provided for thirty months of Section 232 submissions data covering nearly 240,000 of Section 232 submissions. Based on the quantity and timespan of the data, Commerce concluded that all 123 HTSUS codes could be implemented as GAEs.

Since publishing the December 14 rule, Commerce has become aware that exclusion requests for steel and aluminum articles specified by 29 of the GAEs removed by this interim final rule—25 steel GAEs and 4 aluminum GAEs—received objections after September 12, 2020. In some but not all cases, the Department denied these exclusion requests. BIS is removing these 29 GAEs to conduct further analysis with updated data from the Section 232 Exclusions Portal. BIS, based on the results of this analysis, may reissue these GAEs in whole or part in subsequent rules. Commerce has also made internal process changes specific to the timing of data runs to ensure that the baseline date used for determining new GAEs is as close as possible to when any subsequent rule that adds or revises the GAEs is published. These internal process changes will allow Commerce, as needed, to remove GAEs from a rule prior to publication if it is determined that one or more of the GAEs (or the HTSUS codes comprising the GAEs) have received objections and/or denials.

As a conforming change to a recent U.S. International Trade Commission (ITC) decision, this rule also removes one additional steel GAE. Specifically, the ITC 484(f) Committee retired HTSUS Classification 7208390015 (covered by GAE.92.S) effective July 1, 2021. This rule removes GAE.92.S from the GAE List.

In order to more efficiently address future ITC changes to the Harmonized Tariff Schedule of the United States, Commerce is adding a note to supplements no. 2 and no. 3 to specify how GAEs will be treated when the ITC makes certain changes to the HTSUS Classifications as part of their routine updates to the HTSUS with revisions (including re-categorizations), modifications, and removals to/from the HTSUS Classifications. The note specifies that the list of the HTSUS Classifications referenced in supplements no. 2 and no. 3 of GAEs is drawn from the Harmonized Tariff Schedule of the United States published on the ITC website and ITC Change Records for HTSUS Classifications (compiled at https://hts.usitc.gov/) and will be amended when the ITC publishes subsequent Change Records. The note added to supplements no. 2 and no. 3 specifies that if there are any discrepancies between the list of the HTSUS Classifications in the GAE List and the HTSUS Classifications identified by the ITC in the Harmonized Tariff Schedule of the United States and the associated Change Records, the ITC's list of HTSUS Classifications shall be controlling. The new note this rule adds to supplements no. 2 and no. 3 specifies that if an HTSUS Classification defining a GAE is split or otherwise modified by the ITC in the HTSUS, Commerce will extend the GAE to the newly created HTSUS Classification(s), so long as the new `child' HTSUS Classification(s) contain products falling entirely within the scope of the old `parent' HTSUS Classification. The new note added to supplements no. 2 and no. 3 also specifies that these types of `inherited' GAEs will be effective from the effective date of the change to the HTSUS, even prior to a Commerce rule being published to add the new HTSUS number to one of the GAE lists under supplements no. 2 or 3. This note being added to supplements no. 2 and no. 3 will allow Commerce to instruct CBP to retain the GAE in the event of an HTSUS classification being modified even before Commerce is able to update and publish a revised GAE list under supplements no. 2 or no. 3. During the period after the effective date of the change to the HTSUS and before the GAE is updated, ACE will reject entries claiming the exclusion with the new HTSUS number and importers will have to make entry without the exclusion. In order for importers to preserve their rights, if any, to the exclusion with the new HTSUS number during this period, the note also advises importers to seek extensions of liquidation of the affected entries with CBP until Commerce is able to update and publish a revised GAE list under supplements no. 2 or no. 3.

Commerce has determined that the internal process changes implemented will address these issues that occurred during the selection of the GAEs included in the December 14 rule. Additionally, as stated in the December 14 rule and above, Commerce may publish notices requesting comments on additions, removals, or modifications of GAEs. Commerce will make changes to the GAEs whenever it is warranted to ensure that U.S. national security interests are protected. The adoption of the GAEs was an important step for users of steel and aluminum articles needed for national security applications as has been noted by many commenters on past Section 232 interim final rules. However, Commerce will evaluate all changes to the Section 232 program in light of whether they are improving the effectiveness of the program and whether or not the changes are consistent with the objectives of the Section 232 program.

BIS does not anticipate that suspension of these 30 GAEs will substantially increase the total volume of submitted exclusion requests in the Section 232 Exclusions Portal. BIS has received 2,109 exclusion requests from 109 requestors for articles covered by these 30 GAEs in the Section 232 Exclusions Portal over an approximate two-year period. BIS estimates that the removal of these 30 GAEs will affect roughly 100 requestors who submit exclusion requests and will lead to the submission of an additional 1,100 exclusion requests per year in the Section 232 Exclusions Portal.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be a “significant regulatory action,” although not economically significant, under section 3(f) of Executive Order 12866. Pursuant to Proclamations 9704 and 9705 of March 8, 2018, and Proclamations 9776 and 9777 of August 29, 2018, the establishment of procedures for an exclusions process under each Proclamation shall be published in the Federal Register.

2. The Paperwork Reduction Act of 1995 (44 U.S.C. 3501 et seq.) (PRA) provides that an agency generally cannot conduct or sponsor a collection of information, and no person is required to respond to nor be subject to a penalty for failure to comply with a collection of information, unless that collection has obtained Office of Management and Budget (OMB) approval and displays a currently valid OMB Control Number.

This final regulation involves three collections currently approved by OMB with the following control numbers:

• Exclusions from the Section 232 National Security Adjustments of Imports of Steel and Aluminum (control number 0694-0139).

• Objections from the Section 232 National Security Adjustments of Imports of Steel and Aluminum (control number 0694-0138).

• Procedures for Submitting Rebuttals and Surrebuttals Requests for Exclusions from and Objections to the Section 232 Adjustments for Steel and Aluminum (OMB control number 0694-0141).

This rule is expected to increase the burden hours for one of the collections associated with this rule, OMB control number 0694-0139. This increase is expected because of the removal of 26 GAEs for steel and 4 GAEs for aluminum, which is expected to result in an increase of 1,100 exclusion request submissions per year. These removals are estimated to result in a twenty percent reduction in the burden and costs savings described in the December 14 rule. These GAE removals are expected to be an increase in 1,100 burden hours for a total cost increase of 162,800 dollars to the public. There is also expected to be an increase in 6,600 burden hours for a total cost increase of 257,000 dollars to the U.S. Government. As Commerce asserted in the December 14 rule that the steel and aluminum articles identified as being eligible for GAEs, including those being removed in today's rule, had not received any objections, the addition of those new GAEs was not estimated to result in a decrease in the number of objections, rebuttals, or surrebuttals received by BIS. As described elsewhere in this rule, the GAEs removed in today's interim final rule did receive objections and/or denials and therefore warrant removal at this time. Because the December 14 rule did not make any adjustments to the collections for objections, rebuttals, or surrebuttals, the removal of these GAEs is estimated to result in no change in the burden associated with the other two collections. Commerce Department intends to provide separate 60-day notice in the Federal Register requesting public comment on the information collections contained within this rule.

3. This rule does not contain policies with Federalism implications as that term is defined in Executive Order 13132.

4. The provisions of the Administrative Procedure Act (5 U.S.C. 553) requiring notice of proposed rulemaking, the opportunity for public comment, and a delay in effective date are inapplicable because this regulation involves a military or foreign affairs function of the United States. (See 5 U.S.C. 553(a)(1)). As explained in the reports submitted by the Secretary to the President, steel and aluminum are being imported into the United States in such quantities or under such circumstances as to threaten to impair the national security of the United States, and therefore the President is implementing these remedial actions (as described Proclamations 9704 and 9705 of March 8, 2018) to protect U.S. national security interests. That implementation includes the creation of an effective process by which affected domestic parties can obtain exclusion requests “based upon specific national security considerations.” Commerce started this process with the publication of the March 19 rule and refined the process with the publication of the September 11, June 10, and December 14 rules and is continuing the process with the publication of today's interim final rule. The revisions to the exclusion request process are informed by the comments received in response to the December 14 rule and Commerce's experience with managing the Section 232 exclusions process.

In the December 14 rule, Commerce took what many commenters characterized as a significant step to improve the efficiency and effectiveness of the Section 232 exclusions process by adding General Approved Exclusions (GAEs). The GAEs are an effort to improve the efficiency and effectiveness of the Section 232 exclusions process while not undermining the national security objectives of the tariffs by adopting a more efficient authorization mechanism for certain steel and aluminum articles that had not received objections over an extended period of time and with many exclusion requests being submitted for the specified articles. Many commenters on the earlier Section 232 rules requested that Commerce create a type of general approval that could be used by any importer. These commenters on the earlier Section 232 rules, as well as on December 14 rule, indicated that such general approvals would be important to minimize the negative impacts of the tariffs and the inefficiencies of the Section 232 exclusions process, which these commenters indicated was undermining U.S. national security and economic security because of the difficulty and increased costs involved in obtaining needed steel and aluminum articles, including in certain cases for U.S. defense applications. Commerce took a deliberative approach in identifying what HTSUS codes could be considered for inclusion as GAEs and specified criteria in the December 14 rule to explain how the adoption of these GAEs would not undermine the national security objectives of the Section 232 process and would instead help to protect U.S. national security and economic security by improving the efficiency and effectiveness of the Section 232 exclusions process. Some commenters on the December 14 rule identified the implementation of the GAEs as an area where the transparency, effectiveness, and fairness of the process was improved.

However, other commenters on the December 14 rule raised concerns with the addition of the GAEs, in particular raising concerns that the addition would directly undermine U.S. national security and the objectives of the Section 232 exclusions process. These commenters on the December 14 rule highlighted that Commerce was not being consistent with the criteria Commerce used for justifying adding the GAEs. Therefore, these commenters noted that the addition of these GAEs had the potential to significantly undermine the national security objectives. These commenters also took issue with Commerce's claim that these GAEs would not negatively impact U.S. national security when describing the rationale for adding these GAEs. Comments received for the December 14 rule in this area primarily focused on the creation of specific GAEs containing articles for which exclusion requests had previously received objections and/or been denied. These commenters noted that for the addition of this subset of GAEs, regardless of the merits or rationale for adding the other GAEs, there was a disconnect with Commerce's stated criteria from the December 14 rule. Therefore, this subset of 29 GAEs must be removed from the regulations.

Commerce understands the importance of having a transparent, fair, and efficient product exclusion request process, consistent with the directive provided by the President to create this type of process to mitigate any unintended consequences of imposing the tariffs on steel and aluminum in order to protect critical U.S. national security interests. The publication of today's rule should make further improvements in all three respects.

In addition, Commerce finds that there is good cause under 5 U.S.C. 553(b)(B) to waive the provisions of the Administrative Procedure Act requiring prior notice and the opportunity for public comment, and that there is good cause under 5 U.S.C. 553(d)(3) to waive the delay in effective date, because such delays would be either impracticable or contrary to the public interest. In order to ensure that the actions taken to adjust imports do not undermine users of steel or aluminum that are subject to the remedial actions instituted by the Proclamations and that are critical to protecting the national security of the United States, the Presidential Proclamations authorized the Secretary of Commerce, in consultation with the Secretary of Defense, the Secretary of the Treasury, the Secretary of State, the United States Trade Representative, the Assistant to the President for Economic Policy, the Assistant to the President for National Security Affairs, and other senior Executive Branch officials as appropriate, to grant exclusions for the import of goods not currently available in the United States in a sufficient quantity or satisfactory quality, or for other specific national security reasons. The Presidential Proclamations further directed the Secretary to, within ten days, issue procedures for submitting and granting these requests for exclusions—this interim final rule fulfills that direction. As described above, the Secretary complied with the direction from the President with the publication of the March 19 rule, as well as in the improvements made in the September 11, June 10, and December 14 rules, and is taking the next step in improving the Section 232 exclusions process by making needed changes with the publication of today's rule, so as not to undermine the national security objectives for which the December 14 rule added the GAEs to the regulations. The immediate implementation of an effective exclusion request process, consistent with the intent of the Presidential Proclamations, also required creating a process to allow any individual or organization in the United States to submit objections to submitted exclusion requests. The objection process was created with the publication of the March 19 rule, and the subsequent rules further improved specific aspects of the Section 232 exclusions process. The publication of today's rule makes needed changes in the Section 232 exclusions process to create the type of fair, transparent, and efficient process that was intended in the March 19, September 11, June 10, and December 14 rules, but commenters noted that the specific subset of GAEs that contained steel or aluminum articles for which exclusion requests had received objections and/or been denied. Today's rule makes critical changes to further ensure a fair, transparent, and efficient exclusion process by ensuring the GAEs that remain in the regulations are consistent with the objectives of the Section 232 exclusion process.

If this interim final rule were to be delayed to allow for public comment or to provide for a thirty-day delay in the date of effectiveness, companies in the United States would be unable to immediately benefit from the improvements made to the GAE process and could face significant economic hardship, which could potentially create a detrimental effect on the general U.S. economy and national security. Comments received on the December 14 rule that were critical of the GAEs were clear that the removal of GAEs that consisted of HTSUS codes that received objections and/or denials under the Section 232 process was needed. Commenters noted that failure to provide this additional improvement could allow the “floodgates” to open for imports of those articles, and that the influx of such articles could undermine the efficiency of the Section 232 process. Commenters also noted that if this specific improvement is not made, significant economic consequences could occur. Given the imports of these articles have already been objected to and/or denied in exclusion requests under the Section 232 process for national security reasons, allowing these specific GAEs to exist could undermine other critical U.S. national security interests.

Because a notice of proposed rulemaking and an opportunity for prior public comment are not required for this rule by 5 U.S.C. 553, or by any other law, the analytical requirements of the Regulatory Flexibility Act, 5 U.S.C. 601 et seq., are not applicable. Accordingly, no regulatory flexibility analysis is required, and none has been prepared.

List of Subjects in 15 CFR Part 705

Administrative practice and procedure, Business and industry, Classified information, Confidential business information, Imports, Investigations, National security.

For the reasons set forth in the preamble, part 705 of subchapter A of 15 CFR chapter VII is amended as follows:

PART 705—EFFECT OF IMPORTED ARTICLES ON THE NATIONAL SECURITY

1. The authority citation for part 705 continues to read as follows:

Authority: Section 232 of the Trade Expansion Act of 1962, as amended (19 U.S.C. 1862) and Reorg. Plan No. 3 of 1979 (44 FR 69273, December 3, 1979).

2. In part 705, amend Supplement No. 2 by revising the supplement heading and the table to read as follows:

Supplement No. 2 to Part 705—GENERAL APPROVED EXCLUSIONS (GAEs) FOR STEEL ARTICLES UNDER THE SECTION 232 EXCLUSIONS PROCESS

* * * * *

GAE Identifier | Description of steel that may be imported (at 10-digit harmonized tariff schedule of the United States (HTSUS) statistical reporting number or more narrowly defined at product level) | Other limitations (e.g., country of import or quantity allowed) | Federal Register citation
GAE.1.S: 7304592030 | 7304592030. TUBES/PIPES/HLLW PRFLS OTH ALLOY STL, SMLESS, CIRC CS, OTHER THAN COLD-DRAWN/COLD-ROLLED (COLD-REDUCED), SUITABLE FOR BOILERS ETC, HEAT-RESISTING STL |  | 85 FR 81079, 12/14/2020. 86 FR [INSERT FR PAGE NUMBER] December 9, 2021.
GAE.2.S: 7304592080 | 7304592080. TUBES/PIPES/H PRFLS ALLOY STL, SMLSS, CIRC CS, OTHER THAN COLD-DRAWN/COLD-ROLLED (COLD-REDUCED), SUIT FOR BOILERS ETC, NOT HT-RSST STL, OS DIAMETER >406.4MM |  | 85 FR 81079, 12/14/2020. 86 FR [INSERT FR PAGE NUMBER] December 9, 2021.
GAE.4.S: 7222406000 | 7222406000. ANGLES SHAPES AND SECTIONS STAINLESS STEEL, OTHER THAN HOT ROLLED, NOT DRILLED, NOT PUNCHED, AND NOT OTHERWISE ADVANCED |  | 85 FR 81079, 12/14/2020. 86 FR [INSERT FR PAGE NUMBER] December 9, 2021.
GAE.5.S: 7306901000 | 7306901000. OTH TUBES/PIPES/HOLLOW PROFILES IRON/NONALLOY STL, RIVETED/SIMILARLY CLOSED (NOT WELDED) |  | 85 FR 81079, 12/14/2020. 86 FR [INSERT FR PAGE NUMBER] December 9, 2021.
GAE.6.S: 7212600000 | 7212600000. FLAT-ROLLED IRON/NONALLOY STL, WDTH <600MM, CLAD |  | 85 FR 81079, 12/14/2020. 86 FR [INSERT FR PAGE NUMBER] December 9, 2021.
GAE.8.S: 7220207060 | 7220207060. FLAT-ROLLED STAINLESS STL, WDTH <300MM, NFW THAN COLD-RLD (COLD-REDUCED), THICKNESS >0.25MM BUT </= 1.25MM, </= 0.5% NICKEL <15% CHROMIUM |  | 85 FR 81079, 12/14/2020. 86 FR [INSERT FR PAGE NUMBER] December 9, 2021.
GAE.9.S: 7223005000 | 7223005000. FLAT WIRE OF STAINLESS STEEL |  | 85 FR 81079, 12/14/2020. 86 FR [INSERT FR PAGE NUMBER] December 9, 2021.
GAE.10.S: 7220208000 | 7220208000. FLAT-ROLLED STAINLESS STL, WDTH <300MM, NFW THAN COLD-RLD (COLD-REDUCED), THK </= 0.25MM, RAZOR BLADE STL |  | 85 FR 81079, 12/14/2020. 86 FR [INSERT FR PAGE NUMBER] December 9, 2021.
GAE.11.S: 7217108060 | 7217108060. ROUND WIRE IRON/NONALLOY STL, NOT PLATED/COATED, >/= 0.6% CARBON, NOT HEAT-TREATED, OS DIAMETER <1.0MM |  | 85 FR 81079, 12/14/2020. 86 FR [INSERT FR PAGE NUMBER] December 9, 2021.
GAE.12.S: 7226923060 | 7226923060. FLAT-ROLLED OTH ALLOY STL, WDTH <300MM, NFW THAN COLD-RLD (COLD-REDUCED), TOOL STEEL OTH THAN HIGH-SPEED, OTHER THAN BALL-BEARING STEEL |  | 85 FR 81079, 12/14/2020. 86 FR [INSERT FR PAGE NUMBER] December 9, 2021.
GAE.13.S: 7229905010 | 7229905016. ROUND WIRE OTHER ALLOY STL, OS DIAMETER <1.0MM |  | 85 FR 81079, 12/14/2020. 86 FR [INSERT FR PAGE NUMBER] December 9, 2021.
GAE.15.S: 7304598060 | 7304598060. TUBES/PIPES/HLLW PRFLS OTH ALLOY STL, SMLESS, CIRC CS, OTHER THAN COLD-DRAWN/COLD-ROLLED (COLD-REDUCED), OS DIAMETER >285.8MM BUT <406MM, WALL THK <12.7MM |  | 85 FR 81079, 12/14/2020. 86 FR [INSERT FR PAGE NUMBER] December 9, 2021.
GAE.17.S: 7304246030 | 7304246030. TUBING (OIL/GAS DRILLING) STAINLESS STL, SEAMLESS, OS DIAMETER </= 114.3MM, WALL THK >9.5MM |  | 85 FR 81079, 12/14/2020. 86 FR [INSERT FR PAGE NUMBER] December 9, 2021.
GAE.18.S: 7229905031 | 7229905031. ROUND WIRE OTHER ALLOY STL, WITH OS DIAMETER >/= 1.0MM BUT <1.5MM |  | 85 FR 81079, 12/14/2020. 86 FR [INSERT FR PAGE NUMBER] December 9, 2021.
GAE.19.S: 7304598010 | 7304598010. TUBES/PIPES/HOLLOW PROFILES OTH ALLOY STL, SEAMLESS, CIRC CS, OTHER THAN COLD-DRAWN/COLD-ROLLED (COLD-REDUCED), NOT HEAT-RESISTANT, OS DIAMETER <38.1MM |  | 85 FR 81079, 12/14/2020. 86 FR [INSERT FR PAGE NUMBER] December 9, 2021.
GAE.20.S: 7219310010 | 7219310010. FLAT-ROLLED STAINLESS STL, WDTH >/= 600MM, NFW THAN COLD-RLD (COLD-REDUCED), THK >/= 4.75MM, COILS |  | 85 FR 81079, 12/14/2020. 86 FR [INSERT FR PAGE NUMBER] December 9, 2021.
GAE.21.S: 7304598045 | 7304598045. TUBES/PIPES/HLLW PRFLS OTH ALLOY STL, SMLESS, CIRC CS, OTHER THAN COLD-DRAWN/COLD-ROLLED (COLD-REDUCED), NOT HEAT-RESISTANT, OS DIAMETER >/= 190.5MM BUT </= 285.8MM, WALL THK <12.7MM |  | 85 FR 81079, 12/14/2020. 86 FR [INSERT FR PAGE NUMBER] December 9, 2021.
GAE.22.S: 7306401090 | 7306401090. OTH TUBES/PIPES/HOLLOW PRFLS STAINLESS STL, WELDED, CIRC CS, WALL THK <1.65MM, </= 0.5% NICKEL |  | 85 FR 81079, 12/14/2020. 86 FR [INSERT FR PAGE NUMBER] December 9, 2021.
GAE.24.S: 7211296080 | 7211296080. FLAT-ROLLED IRON/NONALLOY STL, WIDTH >/= 300MM BUT <600MM, NOT CLAD/PLATED/COATED, NFW THAN COLD-RLD (COLD-REDUCED), >/= 0.25% CRBN, THK </= 1.25MM |  | 85 FR 81079, 12/14/2020. 86 FR [INSERT FR PAGE NUMBER] December 9, 2021.
GAE.25.S: 7217201500 | 7217201500. FLAT WIRE IRON/NONALLOY STL, PLATED/COATED WITH ZINC |  | 85 FR 81079, 12/14/2020. 86 FR [INSERT FR PAGE NUMBER] December 9, 2021.
GAE.26.S: 7219120026 | 7219120026. FLAT-ROLLED STAINLESS STL, WDTH >1575MM, HOT-RLD, COILS, THK >6.8MM BUT <10MM |  | 85 FR 81079, 12/14/2020. 86 FR [INSERT FR PAGE NUMBER] December 9, 2021.
GAE.28.S: 7304243010 | 7304243010. CASING (OIL/GAS DRILLING) STAINLESS STL, SEAMLESS, THREADED/COUPLED, OS DIAMETER <215.9MM, WALL THK <12.7MM |  | 85 FR 81079, 12/14/2020. 86 FR [INSERT FR PAGE NUMBER] December 9, 2021.
GAE.29.S: 7219220035 | 7219220035. FLAT-ROLLED STAINLESS STL, THICKNESS >/= 4.75MM BUT <10MM, WIDTH >/= 600MM BUT <1575MM, HOT-RLD, NOT COILS, THK 4.75-10MM, >0.5% NICKEL |  | 85 FR 81079, 12/14/2020. 86 FR [INSERT FR PAGE NUMBER] December 9, 2021.
GAE.30.S: 7222403085 | 7222403085. SHAPES/SECTIONS STAINLESS STL, HOT-RLD, NOT DRILLED/PUNCHED/ADVANCED, MAX CROSS SECTION <80MM |  | 85 FR 81079, 12/14/2020. 86 FR [INSERT FR PAGE NUMBER] December 9, 2021.
GAE.31.S: 7222403045 | 7222403045. SHAPES/SECTIONS STAINLESS STL, HOT-RLD, NOT DRILLED/PUNCHED/ADVANCED, MAX CS >/= 80MM |  | 85 FR 81079, 12/14/2020. 86 FR [INSERT FR PAGE NUMBER] December 9, 2021.
GAE.32.S: 7219110060 | 7219110060. FLAT-ROLLED STAINLESS STL, WDTH >1575MM, HOT-RLD, COILS, THK >10MM |  | 85 FR 81079, 12/14/2020. 86 FR [INSERT FR PAGE NUMBER] December 9, 2021.
GAE.36.S: 7219110030 | 7219110030. FLAT-ROLLED STAINLESS STL, WIDTH >/= 600MM BUT <1575MM, HOT-RLD, COILS, THK >10MM |  | 85 FR 81079, 12/14/2020. 86 FR [INSERT FR PAGE NUMBER] December 9, 2021.
GAE.40.S: 7220206060 | 7220206060. FLAT-ROLLED STAINLESS STL, WDTH <300MM, NFW THAN COLD-RLD (COLD-REDUCED), THK >1.25MM, </= 0.5% NICKEL, <15% CHROMIUM |  | 85 FR 81079, 12/14/2020. 86 FR [INSERT FR PAGE NUMBER] December 9, 2021.
GAE.41.S: 7217108025 | 7217108025. ROUND WIRE IRON/NONALLOY STL, NOT PLATED/COATED, >0.6% CARBON, HEAT-TREATED, OS DIAMETER <1.0MM |  | 85 FR 81079, 12/14/2020. 86 FR [INSERT FR PAGE NUMBER] December 9, 2021.
GAE.42.S: 7220121000 | 7220121000. FLAT-ROLLED STAINLESS STL, WIDTH >/= 300MM BUT <600MM, HOT-RLD, THK <4.75MM |  | 85 FR 81079, 12/14/2020. 86 FR [INSERT FR PAGE NUMBER] December 9, 2021.
GAE.43.S: 7209900000 | 7209900000. FLAT-ROLLED IRON/NONALLOY STL, WDTH >/= 600MM, COLD-RLD, NOT CLAD/PLATED/COATED, WHETHER OR NOT IN COILS |  | 85 FR 81079, 12/14/2020. 86 FR [INSERT FR PAGE NUMBER] December 9, 2021.
GAE.44.S: 7213913020 | 7213913020. BARS/RODS IRON/NA STL, IRR COILS, HOT-RLD, CIRC CS, OS DIAMETER <14MM, NOT TEMPRD/TREATD/PARTLY MFTD, WELDING QUALITY WIRE ROD |  | 85 FR 81079, 12/14/2020. 86 FR [INSERT FR PAGE NUMBER] December 9, 2021.
GAE.45.S: 7306617060 | 7306617060. OTH TUBES/PIPES/HOLLOW PROFILES OTH ALLOY STL (NOT STAINLESS), WELDED, SQ/RECT CS, WALL THK <4MM |  | 85 FR 81079, 12/14/2020. 86 FR [INSERT FR PAGE NUMBER] December 9, 2021.
GAE.46.S: 7216330090 | 7216330090. H SECTIONS IRON/NONALLOY STL, HOT-RLD/DRWN/EXTRD, HEIGHT >/= 80MM |  | 85 FR 81079, 12/14/2020. 86 FR [INSERT FR PAGE NUMBER] December 9, 2021.
GAE.47.S: 7217905030 | 7217905030. WIRE IRON/NONALLOY STL, NOT PLATED/COATED WITH BASE METALS OR PLASTICS, <0.25% CARBON |  | 85 FR 81079, 12/14/2020. 86 FR [INSERT FR PAGE NUMBER] December 9, 2021.
GAE.48.S: 7226923030 | 7226923030. FLAT-ROLLED OTH ALLOY STL, WDTH <300MM, NFW THAN COLD-RLD (COLD-REDUCED), TOOL STEEL OTH THAN HIGH-SPEED, BALL-BEARING STL |  | 85 FR 81079, 12/14/2020. 86 FR [INSERT FR PAGE NUMBER] December 9, 2021.
GAE.49.S: 7219120051 | 7219120051. FLAT-ROLLED STAINLESS STL, WIDTH >/= 1370MM BUT <1575MM, HOT-RLD, COILS, THICKNESS >/= 4.75MM BUT <6.8MM |  | 85 FR 81079, 12/14/2020. 86 FR [INSERT FR PAGE NUMBER] December 9, 2021.
GAE.50.S: 7227906020 | 7227906020. BARS/RODS OTHER ALLOY STL, IRR COILS, HOT-RLD, NOT TOOL STL, WELDING QUALITY WIRE RODS |  | 85 FR 81079, 12/14/2020. 86 FR [INSERT FR PAGE NUMBER] December 9, 2021.
GAE.51.S: 7217905090 | 7217905090. WIRE IRON/NONALLOY STL, NOT PLATED/COATED WITH BASE METALS OR PLASTICS, >/= 0.6% CARBON |  | 85 FR 81079, 12/14/2020. 86 FR [INSERT FR PAGE NUMBER] December 9, 2021.
GAE.57.S: 7304901000 | 7304901000. TUBES/PIPES/HOLLOW PROFILES IRON/NONALLOY STL, SEAMLESS, NONCIRCULAR CROSS SECTION, WALL THK >/= 4MM |  | 85 FR 81079, 12/14/2020. 86 FR [INSERT FR PAGE NUMBER] December 9, 2021.
GAE.58.S: 7304390002 | 7304390002. TUBES/PIPES/HLLW PRFLS IRON/NA STL, SMLESS, CIRC CS, OTHER THAN COLD-DRAWN/COLD-ROLLED (COLD-REDUCED), SUITABLE FOR BOILERS ETC, OS DIAMETER <38.1MM |  | 85 FR 81079, 12/14/2020. 86 FR [INSERT FR PAGE NUMBER] December 9, 2021.
GAE.59.S: 7219120071 | 7219120071. FLAT-ROLLED STAINLESS STL, WDTH >600MM BUT <1370MM, HOT-RLD, COILS, THICKNESS >/= 4.75MM BUT <10MM, NOT HIGH-NICKEL ALLOY, >0.5% NICKEL, </= 1.5% OR >/= 5% MOLYBDENUM |  | 85 FR 81079, 12/14/2020. 86 FR [INSERT FR PAGE NUMBER] December 9, 2021.
GAE.61.S: 7217905060 | 7217905060. WIRE IRON/NONALLOY STL, PLATED/COATED, >0.25% BUT <0.6% CARBON |  | 85 FR 81079, 12/14/2020. 86 FR [INSERT FR PAGE NUMBER] December 9, 2021.
GAE.62.S: 7220125000 | 7220125000. FLAT-ROLLED STAINLESS STL, WDTH <300MM, HOT-RLD, THK <4.75MM |  | 85 FR 81079, 12/14/2020. 86 FR [INSERT FR PAGE NUMBER] December 9, 2021.
GAE.63.S: 7226928005 | 7226928005. FLAT-ROLLED OTH ALLOY STL, WDTH <300MM, NFW THAN COLD-RLD (COLD-REDUCED), NOT TOOL STL, THK >0.25MM, HIGH-NICKEL ALLOY STL |  | 85 FR 81079, 12/14/2020. 86 FR [INSERT FR PAGE NUMBER] December 9, 2021.
GAE.64.S: 7217106000 | 7217106000. OTHER WIRE IRON/NONALLOY STL, NOT PLATED/COATED, <0.25% CARBON |  | 85 FR 81079, 12/14/2020. 86 FR [INSERT FR PAGE NUMBER] December 9, 2021.
GAE.65.S: 7219120021 | 7219120021. FLAT-ROLLED STAINLESS STL, WIDTH >/= 1370MM BUT </= 1575MM, HOT-RLD, COILS, THICKNESS >6.8MM BUT </= 10MM |  | 85 FR 81079, 12/14/2020. 86 FR [INSERT FR PAGE NUMBER] December 9, 2021.
GAE.66.S: 7304390016 | 7304390016. TUBES/PIPES/HOLLOW PROFILES IRON/NA STL, SEAMLESS, CIRC CS, OTHER THAN COLD-DRAWN/COLD-ROLLED (COLD-REDUCED), GALVANIZED, OS DIAMETER </= 114.3MM |  | 85 FR 81079, 12/14/2020. 86 FR [INSERT FR PAGE NUMBER] December 9, 2021.
GAE.67.S: 7304244040 | 7304244040. CASING (OIL/GAS DRILLING) STAINLESS STL, SEAMLESS, NOT THREADED/COUPLED, OS DIAMETER >/= 215.9MM BUT </= 285.8MM, WALL THK >/= 12.7MM |  | 85 FR 81079, 12/14/2020. 86 FR [INSERT FR PAGE NUMBER] December 9, 2021.
GAE.69.S: 7304413005 | 7304413005. TUBES/PIPES/HOLLOW PRFLS STAINLESS STL, SEAMLESS, CIRC CS, COLD-DRWN/RLD (COLD-REDUCED), OS DIAMETER <19MM, HIGH-NICKEL ALLOY STL |  | 85 FR 81079, 12/14/2020. 86 FR [INSERT FR PAGE NUMBER] December 9, 2021.
GAE.70.S: 7215500090 | 7215500090. OTHER BARS/RODS IRON/NONALLOY STL, COLD-FORMED/FINISHED, NOT COILS, >/= 0.6% CARBON |  | 85 FR 81079, 12/14/2020. 86 FR [INSERT FR PAGE NUMBER] December 9, 2021.
GAE.72.S: 7227200030 | 7227200030. BARS/RODS SILICO-MANGANESE STL, IRR COILS, HOT-RLD, WELDING QUALITY WIRE RODS, STAT NOTE 6 |  | 85 FR 81079, 12/14/2020. 86 FR [INSERT FR PAGE NUMBER] December 9, 2021.
GAE.73.S: 7306697060 | 7306697060. OTH TUBES/PIPES/HOLLOW PROFILES OTH ALLOY STL (NOT STAINLESS), WELDED, OTH NONCIRCULAR CS, WALL THK <4MM |  | 85 FR 81079, 12/14/2020. 86 FR [INSERT FR PAGE NUMBER] December 9, 2021.
GAE.74.S: 7302101045 | 7302101045. RAILS IRON/NONALLOY STL, NEW, HEAT TREATED, >30KG/M |  | 85 FR 81079, 12/14/2020. 86 FR [INSERT FR PAGE NUMBER] December 9, 2021.
GAE.77.S: 7305316090 | 7305316090. OTHER TUBES/PIPES ALLOY STL, CIRC CS, OS DIAMETER >406.4MM, NOT LINE PIPE OR CASING (OIL/GAS), LONGITUDINALLY WELDED, NOT TAPERED PIPES/TUBES, NON-STAINLESS ALLOY STEEL |  | 85 FR 81079, 12/14/2020. 86 FR [INSERT FR PAGE NUMBER] December 9, 2021.
GAE.79.S: 7226990110 | 7226990110. FLAT-ROLLED OTH ALLOY STL, WDTH <600MM, ELECTROLYTICALLY PLATD/COATD W/ZINC, NOT GRAIN ORIENTED, NOT OF HIGH-SPEED STEEL, FURTHER WORKED THAN HOT-ROLLED OR COLD-ROLLED |  | 85 FR 81079, 12/14/2020. 86 FR [INSERT FR PAGE NUMBER] December 9, 2021.
GAE.80.S: 7225506000 | 7225506000. FLAT-ROLLED OTH ALLOY STL, WDTH >/= 600MM, COLD-RLD, THK >/= 4.75MM, NOT OF TOOL STEEL |  | 85 FR 81079, 12/14/2020. 86 FR [INSERT FR PAGE NUMBER] December 9, 2021.
GAE.81.S: 7304905000 | 7304905000. TUBES/PIPES/HOLLOW PROFILES IRON/NONALLOY STL, SEAMLESS, NOT CIRCULAR CS, WALL THK <4MM |  | 85 FR 81079, 12/14/2020. 86 FR [INSERT FR PAGE NUMBER] December 9, 2021.
GAE.82.S: 7219220005 | 7219220005. FLAT-ROLLED STAINLESS STL, WDTH >/= 600MM, HOT-RLD, NOT COILS, THICKNESS >/= 4.75MM BUT </= 4.75MM BUT </= 10MM, HIGH-NICKEL ALLOY STL |  | 85 FR 81079, 12/14/2020. 86 FR [INSERT FR PAGE NUMBER] December 9, 2021.
GAE.83.S: 7217104045 | 7217104045. ROUND WIRE IRON/NONALLOY STL, NOT PLATED/COATED, <0.25% CARBON, OS DIAMETER <1.5MM, HEAT-TREATED, IN COILS WEIGHING >2 KG |  | 85 FR 81079, 12/14/2020. 86 FR [INSERT FR PAGE NUMBER] December 9, 2021.
GAE.84.S: 7209270000 | 7209270000. FLAT-ROLLED IRON/NONALLOY STL, WDTH >/= 600MM, COLD-RLD, NOT CLAD/PLATED/COATED, NOT COILS, THK 0.5-1MM |  | 85 FR 81079, 12/14/2020. 86 FR [INSERT FR PAGE NUMBER] December 9, 2021.
GAE.85.S: 7219900060 | 7219900060. OTHER FLAT-ROLLED STAINLESS STL, WDTH >/= 600MM, FURTHER WORKED THAN COLD-RLD, </= 0.5% NICKEL, <15% CHROMIUM |  | 85 FR 81079, 12/14/2020. 86 FR [INSERT FR PAGE NUMBER] December 9, 2021.
GAE.86.S: 7219120081 | 7219120081. FLAT-ROLLED STAINLESS STL, WIDTH >/= 600MM BUT <1370MM, HOT-RLD, COILS, NOT HIGH-NICKEL ALLOY, THICKNESS >/= 4.75MM BUT |  | 85 FR 81079, 12/14/2020. 86 FR [INSERT FR PAGE NUMBER] December 9, 2021.
GAE.88.S: 72241000005 | 7224100005. INGOTS AND OTHER PRIMARY FORMS OF HIGH-NICKEL ALLOY STEEL |  | 85 FR 81079, 12/14/2020. 86 FR [INSERT FR PAGE NUMBER] December 9, 2021.
GAE.89.S: 7213200080 | 7213200080. BARS/RODS IRON/NONALLOY STL, HOT-RLD, IRR COILS, FREE-CUTTING STL, <0.1% LEAD |  | 85 FR 81079, 12/14/2020. 86 FR [INSERT FR PAGE NUMBER] December 9, 2021.
GAE.90.S: 7216100010 | 7216100010. U SECTIONS IRON/NONALLOY STL, HOT-ROLLED/DRAWN/EXTRUDED, HEIGHT <80MM |  | 85 FR 81079, 12/14/2020. 86 FR [INSERT FR PAGE NUMBER] December 9, 2021.
GAE.91.S: 7306695000 | 7306695000. OTH TUBES/PIPES/HOLLOW PROFILES IRON/NONALLOY STL, WELDED, OTH NONCIRCULAR CS, WALL THK <4MM |  | 85 FR 81079, 12/14/2020. 86 FR [INSERT FR PAGE NUMBER] December 9, 2021.
GAE.93.S: 7208380015 | 7208380015. FLAT-ROLLED IRON/NA STL, WDTH >/= 600MM, HOT-RLD, NOT CLAD/PLATED/COATED, COILS, THICKNESS >/= 3MM BUT <4.75MM, HIGH-STRENGTH STL |  | 85 FR 81079, 12/14/2020. 86 FR [INSERT FR PAGE NUMBER] December 9, 2021.
GAE.94.S: 7217104090 | 7217104090. ROUND WIRE IRON/NONALLOY STL, NOT PLATED/COATED, <0.25% CARBON, OS DIAMETER <1.5MM, NOT HEAT-TREATED |  | 85 FR 81079, 12/14/2020. 86 FR [INSERT FR PAGE NUMBER] December 9, 2021.
GAE.95.S: 7302105020 | 7302105020. RAILS OF ALLOY STEEL, NEW |  | 85 FR 81079, 12/14/2020. 86 FR [INSERT FR PAGE NUMBER] December 9, 2021.
GAE.96.S: 7210706030 | 7210706030. FLAT-ROLLED IRON/NA STL, WDTH >/= 600MM, PAINTD/VARNSHD/COATD W/PLASTICS, ELECTROLYTICALLY PLATD/COATD W/ZINC |  | 85 FR 81079, 12/14/2020. 86 FR [INSERT FR PAGE NUMBER] December 9, 2021.
GAE.97.S: 7304244060 | 7304244060. CASING (OIL/GAS DRILLING) STAINLESS STL, SEAMLESS, NOT THREADED/COUPLED, OS DIAMETER >285.8MM BUT /=12.7MM |  | 85 FR 81079, 12/14/2020. 86 FR [INSERT FR PAGE NUMBER] December 9, 2021.
GAE.99.S: 7304243040 | 7304243040. CASING (OIL/GAS DRILLING) STAINLESS STL, SEAMLESS, THREADED/COUPLED, OS DIAMETER >/= 215.9MM BUT /=12.7MM |  | 85 FR 81079, 12/14/2020. 86 FR [INSERT FR PAGE NUMBER] December 9, 2021.
GAE.100.S: 7304243020 | 7304243020. CASING (OIL/GAS DRILLING) STAINLESS STL, SEAMLESS, THREADED/COUPLED, OS DIAMETER <215.9MM, WALL THK >/= 12.7MM |  | 85 FR 81079, 12/14/2020. 86 FR [INSERT FR PAGE NUMBER] December 9, 2021.
GAE.101.S: 7219130081 | 7219130081. FLAT-ROLLED STAINLESS STL, WIDTH >/= 600MM BUT <1370MM, NFW THAN HOT-RLD, COILS, ANNEALED OR PICKLED, THICKNESS >/= 3MM BUT <4.75MM, <0.5% OR >24% NICKEL |  | 85 FR 81079, 12/14/2020. 86 FR [INSERT FR PAGE NUMBER] December 9, 2021.
GAE.102.S: 7211140090 | 7211140090. FLAT-ROLLED IRON/NONALLOY STL, WDTH <600MM, NOT CLAD/PLATED/COATED, NFW THAN HOT-RLD, NOT UNIVERSAL MILL PLATE, THK >/= 4.75MM, NOT HIGH-STRENGTH STEEL, COILS |  | 85 FR 81079, 12/14/2020. 86 FR [INSERT FR PAGE NUMBER] December 9, 2021.
GAE.103.S: 7218910030 | 7218910030. SEMIFINISHED STAINLESS STL, RECTANGULAR CROSS SECTION, WDTH <4X THK, CS AREA >/= 232 CM2 |  | 85 FR 81079, 12/14/2020. 86 FR [INSERT FR PAGE NUMBER] December 9, 2021.
GAE.104.S: 7306213000 | 7306213000. CASING (OIL/GAS DRILLING) STAINLESS STL, WELDED, THREADED/COUPLED |  | 85 FR 81079, 12/14/2020. 86 FR [INSERT FR PAGE NUMBER] December 9, 2021.
GAE.105.S: 7211234500 | 7211234500. FLAT-ROLLED IRON/NONALLOY STL, WDTH <300MM, NOT CLAD/PLATED/COATED, NFW THAN COLD-RLD (COLD-REDUCED), <0.25% CRBN, THK </= 0.25MM |  | 85 FR 81079, 12/14/2020. 86 FR [INSERT FR PAGE NUMBER] December 9, 2021.
GAE.106.S: 7220206080 | 7220206080. FLAT-ROLLED STAINLESS STL, WDTH <300MM, NFW THAN COLD-RLD (COLD-REDUCED), THK >1.25MM, NOT HIGH-NICKEL ALLOY, </= 0.5% NICKEL, >/= 15% CHROMIUM |  | 85 FR 81079, 12/14/2020. 86 FR [INSERT FR PAGE NUMBER] December 9, 2021.
GAE.107.S: 7305391000 | 7305391000. OTHER TUBES/PIPES IRON/NONALLOY STL, CIRC CS, OS DIAMETER >406.4MM, WELDED, OTHER THAN LONGITUDALLY WELDED |  | 85 FR 81079, 12/14/2020. 86 FR [INSERT FR PAGE NUMBER] December 9, 2021.
GAE.108.S: 7217204550 | 7217204550. ROUND WIRE IRON/NONALLOY STL, PLATED/COATED WITH ZINC, OS DIAMETER >/= 1.0MM BUT <1.5MM, >/= 0.25% BUT <0.6% CARBON |  | 85 FR 81079, 12/14/2020. 86 FR [INSERT FR PAGE NUMBER] December 9, 2021.

Note to Supplement No. 2: Harmonized Tariff Schedule of the United States (HTSUS) Classifications are identified by the U.S. International Trade Commission (ITC) through its web version of the Harmonized Tariff Schedule. The list of the HTSUS Classifications referenced in this table of GAEs is drawn from the HTSUS and ITC Change Records for HTSUS Classifications (compiled at https://hts.usitc.gov/) and will be amended when the ITC publishes subsequent Change Records. If there are any discrepancies between the list of the HTSUS Classifications in this table and the HTSUS Classifications identified by the ITC in the Harmonized Tariff Schedule of the United States and the associated Change Records, the ITC's list of HTSUS Classifications shall be controlling. Therefore, if an HTSUS Classification defining a GAE is split or otherwise modified by the ITC in the HTSUS, GAEs are extended to the newly-created HTSUS Classification(s), so long as the new `child' HTSUS Classification(s) contain products falling entirely within the scope of the old `parent' HTSUS classification. These types of `inherited' GAEs are effective from the effective date of the change to the HTSUS, even prior to a Commerce rule being published to add the new HTSUS number to the GAE list under supplement no. 2. During the period after the effective date of the change to the HTSUS and before the GAE is updated, ACE will reject entries claiming the exclusion with the new HTSUS number and importers will have to make entry without the exclusion. In order for importers to preserve their rights, if any, to the exclusion with the new HTSUS number during this period, importers are advised to seek extensions of liquidation of the affected entries with CBP until Commerce is able to update and publish a revised GAE list under this supplement no. 2.

3. In part 705, amend Supplement No. 3 by revising the supplement heading and the table to read as follows:

Supplement No. 3 to Part 705—GENERAL APPROVED EXCLUSIONS (GAEs) FOR ALUMINUM ARTICLES UNDER THE SECTION 232 EXCLUSIONS PROCESS

* * * * *

GAE Identifier | Description of aluminum that may be imported (at 10-digit Harmonized) Tariff Schedule of the United States (HTSUS) statistical reporting number or more narrowly defined at product level) | Other limitations (e.g., country of import or quantity allowed) | Federal Register citation
GAE.1.A: 7609000000 | 7609000000. ALUMINUM TUBE OR PIPE FITTINGS (COUPLINGS, ELBOWS, SLEEVES) |  | 85 FR 81083, 12/14/2020. 86 FR [INSERT FR PAGE NUMBER] December 9, 2021.
GAE.3.A: 7607196000 | 7607196000. ALUMINUM FOIL OF THICKNESS </= 0.2MM, NOT BACKED, OTHER THAN ROLLED BUT NOT FURTHER WORKED, OTHER THAN ETCHED CAPACITOR FOIL, OTHER THAN CUT TO SHAPE W/ THICKNESS </= 0.15 MM |  | 85 FR 81083, 12/14/2020. 86 FR [INSERT FR PAGE NUMBER] December 9, 2021.
GAE.4.A: 7604210010 | 7604210010. ALUMINUM ALLOY HOLLOW PROFILES OF HEAT-TREATABLE INDUSTRIAL ALLOYS OF A KIND DESCRIBED IN NOTE 6 TO THIS CHAPTER |  | 85 FR 81083, 12/14/2020. 86 FR [INSERT FR PAGE NUMBER] December 9, 2021.
GAE.5.A: 7604291010 | 7604291010. ALUMINUM ALLOY PROFILES OTHER THAN HOLLOW PROFILES OF HEAT-TREATABLE INDUSTRIAL ALLOYS OF A KIND DESCRIBED IN NOTE 6 TO THIS CHAPTER |  | 85 FR 81083, 12/14/2020. 86 FR [INSERT FR PAGE NUMBER] December 9, 2021.
GAE.6.A: 7607191000 | 7607191000. ALUMINUM FOIL OF THICKNESS </= 0.2MM, NOT BACKED OTHER THAN ROLLED BUT NOT FURTHER WORKED, ETCHED CAPACITOR FOIL |  | 85 FR 81083, 12/14/2020. 86 FR [INSERT FR PAGE NUMBER] December 9, 2021.
GAE.7.A: 7606116000 | 7606116000. ALUMINUM PLATES, SHEETS AND STRIP, THICKNESS > 0.2MM, RECTANGULAR (INCLUDING SQUARE), NOT ALLOYED, CLAD |  | 85 FR 81083, 12/14/2020. 86 FR [INSERT FR PAGE NUMBER] December 9, 2021.
GAE.8.A: 7605290000 | 7605290000. ALUMINUM WIRE ALLOY, MAXIMUM CROSS-SECTIONAL DIMENSION </= 7MM |  | 85 FR 81083, 12/14/2020. 86 FR [INSERT FR PAGE NUMBER] December 9, 2021.
GAE.9.A: 7601209080 | 7601209080. UNWROUGHT ALUMINUM ALLOY, SHEET INGOT (SLAB) OF A KIND DESCRIBED IN STATISTICAL NOTE 3 TO THIS CHAPTER |  | 85 FR 81083, 12/14/2020. 86 FR [INSERT FR PAGE NUMBER] December 9, 2021.
GAE.10.A: 7607116010 | 7607116010. ALUMINUM FOIL OF THICKNESS >0.01 MM AND </=0.15 MM, ROLLED, NOT BACKED, BOXED & WEIGHING </=11.3 KG |  | 85 FR 81083, 12/14/2020. 86 FR [INSERT FR PAGE NUMBER] December 9, 2021.
GAE.12.A: 7607201000 | 7607201000. ALUMINUM FOIL OF THICKNESS </=0.2 MM, BACKED COVERED OR DECORATED WITH A CHARACTER, DESIGN, FANCY EFFECT OR PATTERN |  | 85 FR 81083, 12/14/2020. 86 FR [INSERT FR PAGE NUMBER] December 9, 2021.
GAE.13.A: 7604295090 | 7604295090. ALUMINUM ALLOY BARS AND RODS, OTHER THAN ROUND CROSS SECTION, OTHER THAN HEAT-TREATABLE INDUSTRIAL ALLOYS OF A KIND DESCRIBED IN NOTES 5 & 6 OF THIS CHAPTER |  | 85 FR 81083, 12/14/2020. 86 FR [INSERT FR PAGE NUMBER] December 9, 2021.

Note to Supplement No. 3: Harmonized Tariff Schedule of the United States (HTSUS) Classifications are identified by the U.S. International Trade Commission (ITC) through its web version of the Harmonized Tariff Schedule of the United States. The list of the HTSUS Classifications referenced in this table of GAEs is drawn from the HTSUS and ITC Change Records for HTSUS Classifications (compiled at https://hts.usitc.gov/) and will be amended when the ITC publishes subsequent Change Records. If there are any discrepancies between the list of HTSUS Classifications in this table and the HTSUS Classifications identified by the ITC in the Harmonized Tariff Schedule of the United States and the associated Change Records, the ITC's list of HTSUS Classifications shall be controlling. Therefore, if an HTSUS Classification defining a GAE is split or otherwise modified by the ITC in the HTSUS, GAEs are extended to the newly-created HTSUS Classification(s), so long as the new `child' HTSUS Classification(s) contain products falling entirely within the scope of the old `parent' HTSUS classification. These types of `inherited' GAEs are effective from the effective date of the change to the HTSUS, even prior to a Commerce rule being published to add the new HTSUS number to the GAE list under this supplement no. 3. During the period after the effective date of the change to the HTSUS and before the GAE is updated, ACE will reject entries claiming the exclusion with the new HTSUS number and importers will have to make entry without the exclusion. In order for importers to preserve their rights, if any, to the exclusion with the new HTSUS number during this period, importers are advised to seek extensions of liquidation of the affected entries with CBP until Commerce is able to update and publish a revised GAE list under this supplement no. 3.

Matthew S. Borman,
Deputy Assistant Secretary for Export Administration.

[FR Doc. 2021-26634 Filed 12-8-21; 8:45 am]

BILLING CODE 3510-33-P